DEPARTMENT OF COMMERCE

International Trade Administration

[A-580-839]

Polyester Staple Fiber from Korea: Final Results of Antidumping Duty Administrative Review

AGENCY: Import Administration, International Trade Administration, Department of Commerce.

ACTION: Notice of Final Results of Antidumping Duty Administrative Review.

SUMMARY: On June 7, 2002, the Department of Commerce published the preliminary results of the administrative review of the antidumping duty order on polyester staple fiber from Korea. The period of review is November 8, 1999, through April 30, 2001. We gave interested parties an opportunity to comment on the preliminary results. Based on our analysis of the comments received and an examination of our calculations, we have made certain changes for the final results. The final weighted-average dumping margins for the seven manufacturer/exporters are listed below in the “Final Results of the Review” section of this notice.

EFFECTIVE DATE: October 15, 2002.

FOR FURTHER INFORMATION CONTACT: Andrew McAllister or Jarrod Goldfeder, Import Administration, International Trade Administration, U.S. Department of Commerce, 14th Street and Constitution Avenue, NW, Washington, DC 20230; telephone: (202) 482-1174, or (202) 482-0189, respectively.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR part 351 (April 2001).

Background

Since the publication of the preliminary results in this review (see Certain Polyester Staple Fiber from Korea: Preliminary Results of Antidumping Duty Administrative Review, 67 FR 39350 (June 7, 2002) (“Preliminary Results”)), the following events have occurred:

We invited parties to comment on the preliminary results of the review. On July 17, 2002, E.I. DuPont de Nemours, Inc., Arteva Specialties S.a.r.l., d/b/a KoSa, Wellman, Inc., and Intercontinental Polymers, Inc., (collectively “the petitioners”), and Estal Industry Co., Ltd. (“Estal”), Keon Baek Co., Ltd. (“Keon Baek”), Mijung Ind., Co., Ltd. (“Mijung”), Sam Young Synthetics Co., Ltd. (“SamYoung”), Stein Fibers, Ltd. (“Stein Fibers”), and Sunglim Co., Ltd. (“Sunglim”) filed case briefs. On July 24, 2002, the above-mentioned parties and Huvis Corporation (“Huvis”) filed rebuttal briefs.

Scope of the Order

For the purposes of this order, the product covered is certain polyester staple fiber (“PSF”). PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (“HTSUS”) at subheading 5503.20.00.20 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65.¹ Although the HTSUS subheadings are provided for convenience and customs purposes, the written description of the merchandise under order is dispositive.

¹ These HTSUS numbers have been revised to reflect changes in the HTSUS numbers at the suffix level.

Period of Review

The period of review (“POR”) is November 8, 1999, through April 30, 2001.

Fair Value Comparisons

To determine whether sales of PSF from Korea to the United States were made at less than normal value, we compared export price (“EP”) to normal value (“NV”). Our calculations followed the methodologies described in the Preliminary Results, except as noted below and in each individual respondent's calculation memorandum, dated October 7, 2002, which is on file in the Import Administration's Central Records Unit (“CRU”), Room B-099 of the main Department of Commerce building.

Export Price

We used EP as defined in section 772(a) of the Act. We calculated EP based on the same methodologies described in the Preliminary Results.

Normal Value

We used the same methodology as that described in the Preliminary Results to determine the cost of production (“COP”), whether comparison market sales were at prices below the COP, and the NV.

Changes from the Preliminary Results

In the Preliminary Results, we miscalculated the per-unit assessment rates of Huvis, Keon Baek, Mijung, and Sam Young. This error has been corrected in these final results. Also, for all respondents, we have added programming language to determine whether the importer-specific duty assessment rates were de mimimis (i.e., less than 0.50 percent).

Analysis of Comments Received

All issues raised in the case and rebuttal briefs by parties to this review are addressed in the “Issues and Decision Memorandum” from Richard W. Moreland, Deputy Assistant Secretary, Import Administration to Faryar Shirzad, Assistant Secretary, Import Administration, dated October 7, 2002 (“Decision Memorandum”), which is hereby adopted by this notice. Attached to this notice as an appendix is a list of the issues which parties have raised and to which we have responded in the Decision Memorandum. Parties can find a complete discussion of all issues raised in this review and the corresponding recommendations in this public memorandum which is on file in the Department's CRU. In addition, a complete version of the Decision Memorandum can be accessed directly on the Web at http://ia.ita.doc.gov/frn/frnhome.htm. The paper copy and electronic version of the Decision Memorandum are identical in content.

Final Results of the Review

We determine that the following percentage margins exist for the period November 8, 1999, through April 30, 2001:

Exporter/manufacturer | Weighted-average ­margin percentage
Daeyang Industrial Co., Ltd. | 1.39
Estal Industry Co., Ltd. | 0.20 (de minimis)
Huvis Corporation | 3.37
Keon Baek Co., Ltd. | 0.31 (de minimis)
Mijung Ind., Co., Ltd. | 1.00
Sam Young Synthetics Co., Ltd. | 0.75
Sunglim Co., Ltd. | 0.61

Assessment Rates

The Department will determine, and the Customs Service shall assess, antidumping duties on all appropriate entries. In accordance with 19 CFR 351.212(b)(1), we have calculated an exporter/importer (or customer)-specific assessment rate for merchandise subject to this review. The Department will issue appropriate assessment instructions directly to the Customs Service within 15 days of publication of these final results of review. We will direct the Customs Service to assess the resulting assessment rates against each of the importer's/customer's entries during the review period.

We have calculated importer-specific assessment rates for the subject merchandise by aggregating the dumping margins calculated for all U.S. sales examined and dividing this amount by the total quantity of those sales. To determine whether the duty assessment rates were de minimis, in accordance with the requirement set forth in 19 CFR 351.106(c)(2), we calculated importer-specific ad valorem rates based on the EPs.

Cash Deposit Requirements

The following cash deposit requirements will be effective for all shipments of the subject merchandise entered, or withdrawn from warehouse, for consumption on or after the publication date of the final results of this administrative review, as provided by section 751(a)(1) of the Act: (1) the cash deposit rates for the reviewed companies will be those established above in the “Final Results of Review” section, except if the rate is less than 0.50 percent, and therefore, de minimis within the meaning of 19 CFR 351.106(c)(1), in which case the cash deposit rate will be zero; (2) for previously reviewed or investigated companies not listed above, the cash deposit rate will continue to be the company-specific rate published for the most recent period; (3) if the exporter is not a firm covered in this review, a prior review, or the original less than fair value investigation, but the manufacturer is, the cash deposit rate will be the rate established for the most recent period for the manufacturer of the merchandise; and (4) the cash deposit rate for all other manufacturers or exporters will continue to be 11.35 percent, the “All Others” rate made effective by the less-than-fair-value investigation. These requirements, when imposed, shall remain in effect until publication of the final results of the next administrative review.

This notice also serves as the only reminder to parties subject to the administrative protective order (“APO”) of their responsibility concerning the disposition of proprietary information disclosed under APO in accordance with 19 CFR 351.305(a)(3). Timely written notification of return/destruction of APO material or conversion to judicial protective order is hereby requested. Failure to comply with the regulation and the terms of an APO is a sanctionable violation.

This administrative review and notice are published in accordance with sections 751(a)(1) of the Act and 19 CFR 351.221(b)(5).

Dated: October 7, 2002.
Faryar Shirzad,
Assistant Secretary for Import Administration.

APPENDIX I

List of Comments in the Issues and Decision Memorandum

Comment 1: De Minimis Threshold

Comment 2: Treatment of Sales Above Normal Value

Comment 3: Imposition of Margins and Injury to the Domestic Injury

Comment 4: Individual-Rate Duty Drawback Scheme

Comment 5: Fixed-Rate Duty Drawback Scheme

Comment 6: Treatment of Disqualified Duty Drawback Benefits

Comment 7: Sunglim G&A and Financial Expense Ratios

Comment 8: Sunglim Foreign Movement Charges

Comment 9: Estal U.S. Credit Expense

Comment 10: Estal General and Administrative Expenses

Comment 11: Estal Financial Expenses

Comment 12: Huvis Home Market Sales in U.S. Dollars

Comment 13: Huvis Matching Criteria

Comment 14: Huvis G&A Expense Ratio

Comment 15: Mijung G&A Expenses

[FR Doc. 02-26179 Filed 10-11-02; 8:45 am]

BILLING CODE 3510-DS-S